NATIONAL AERONAUTICS AND SPACE ADMINISTRATION

[Notice: (04-006)]

Notice of Information Collection Under OMB Review

AGENCY: National Aeronautics and Space Administration (NASA).

ACTION: Notice of information collection under OMB review.

Correction: Information on this collection originally appeared as notice document 03-144 on page 63820 in the issue of Monday, November 10, 2003, with corrections published as notice document 03-153 on Tuesday, December 2, 2003. This notice reflects a change in the title of the collection, as well as slight revisions to the cost and hour burden information provided in the previous notices. The full collection notice, with revisions, is reproduced here.

SUMMARY: The National Aeronautics and Space Administration (NASA) has submitted the following information collection request to the Office of Management and Budget (OMB) for review and approval in accordance with the procedures of the Paperwork Reduction Act of 1995 (Public Law 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Effective Messaging Research.

OMB Number: 2700.

Type of review: New collection.

Need and Uses: The analysis of this survey will position NASA to develop a strategy to effectively communicate Agency messages.

Affected Public: Individuals or households; Business or other for-profit; Not-for-profit institutions; Federal Government; State, Local, or Tribal Government.

Number of Respondents: 2,100.

Responses Per Respondent: 1.

Annual Responses: 2,100.

Hours Per Request: 20 minutes.

Annual Burden Hours: 900.

Frequency of Report: Other (one time).

Patricia L. Dunnington,
Chief Information Officer, Office of the Administrator.

[FR Doc. 04-1196 Filed 1-20-04; 8:45 am]

BILLING CODE 7510-13-P